DEPARTMENT OF HOMELAND SECURITY

U.S. Customs and Border Protection

DEPARTMENT OF AGRICULTURE

Forest Service

Notice of Availability of the Bog Creek Road Project Final Records of Decision

AGENCY: U.S. Customs and Border Protection, Department of Homeland Security and U.S. Forest Service, U.S. Department of Agriculture.

ACTION: Notice of Availability of Final Records of Decision concerning the repair and maintenance of Bog Creek Road and closure of certain roads within the Blue-Grass Bear Management Unit to comply with the Land Management Plan for the Idaho Panhandle National Forests (Forest Plan) for Motorized Access Management within the Selkirk and Cabinet-Yaak Grizzly Bear Recovery Zones in the Selkirk Mountains in Boundary County, Idaho.

SUMMARY: U.S. Customs and Border Protection (CBP) and the U.S. Forest Service (Forest Service) Idaho Panhandle National Forests announce the availability of the Bog Creek Road Project Final Records of Decision (ROD). The CBP ROD addresses the decision to approve the funding for and implement the repair and maintenance of Bog Creek Road. The Forest Service ROD addresses the decisions to: Approve CBP's repair and maintenance of Bog Creek Road for administrative use; and, implement actions to establish grizzly bear core area habitat within the Blue-Grass Bear Management Unit and to meet the objectives of the Land Management Plan for the Idaho Panhandle National Forests (Forest Plan) for Motorized Access Management within the Selkirk and Cabinet-Yaak Grizzly Bear Recovery Zones.

ADDRESSES: Electronic copies of the CBP ROD and Forest Service ROD are available at https://www.cbp.gov/document/environmental-assessments/bog-creek-road-project-environmental-impact-statement and https://www.fs.usda.gov/project/?project=41296.

FOR FURTHER INFORMATION CONTACT: Joseph Zidron, Real Estate and Environmental Branch Chief, CBP, Border Patrol and Air and Marine Program Management Office, by telephone at 949-643-6392, or email at joseph.zidron@cbp.dhs.gov or Kim Pierson, Deputy Forest Supervisor, Forest Service, IPNF, by telephone at 208-765-7220, or email at kim.pierson@usda.gov. Persons who require assistance accessing information should contact the U.S. Department of Agriculture's (USDA) Target Center at 202-720-2600 (voice and TDD) or contact USDA through the Federal Relay Service at 800-877-8339.

SUPPLEMENTARY INFORMATION: U.S. Customs and Border Protection (CBP) and the U.S. Forest Service (Forest Service) Idaho Panhandle National Forests have decided to implement a road repair, maintenance, and motorized closure project in the Continental Mountain area of the Idaho Panhandle National Forests within the Bonners Ferry and Priest Lake Ranger Districts (the Bog Creek Road Project).¹ The Bog Creek Road Project has two objectives: (1) To provide improved east-west access for administrative use to this section of the U.S.-Canada border across the Selkirk Mountains, and (2) to meet grizzly bear motorized access standards within the Blue-Grass Bear Management Unit (BMU) of the Selkirk Grizzly Bear Recovery Zone in order to comply with the Land Management Plan for the Idaho Panhandle National Forests (Forest Plan) for Motorized Access Management within the Selkirk and Cabinet-Yaak Grizzly Bear Recovery Zones.

¹ These decisions are being made pursuant to the National Environmental Policy Act of 1969 (NEPA), 42 U.S.C. 4321 et seq., the President's Council on Environmental Quality Regulations for Implementing the NEPA (40 CFR parts 1500-1508), DHS Directive 023-01, Revision 01, and Instruction 023-01-001-01, Revision 01, and CBP and Forest Service NEPA guidelines.

A Final Environmental Impact Statement (EIS) for the Bog Creek Road Project was issued on February 15, 2019. The Final EIS identified and assessed potential impacts upon the environment of: Repairing and maintaining an approximately 5.6-mile section of the existing Bog Creek Road, which is located in the Selkirk Mountains in Boundary County, Idaho, within approximately two miles of the Canadian border, on land within the Blue-Grass BMU that is managed by the Forest Service; and to manage roads within the Blue-Grass BMU to reduce total road density and provide core habitat in order to comply with the Land Management Plan for the Idaho Panhandle National Forests (Forest Plan) for Motorized Access Management within the Selkirk and Cabinet-Yaak Grizzly Bear Recovery Zones.

Forest Service Pre-Decisional Administrative Review (“Objection”) Process

This project is subject to 36 CFR part 218, subparts A and B of the Forest Service's Project-level Pre-decisional Administrative Review Process. Pursuant to these regulations, those who provided timely and specific written comments regarding the proposed project during a comment period were eligible to file an objection to the Final EIS and the Forest Service's Draft ROD with the Forest Service. On February 15, 2019, the Forest Service published a legal notice in the newspaper of record, the Coeur d'Alene Press, announcing the commencement of the objection filing period and providing instructions for filing objections. The objection filing period began on February 15, 2019, and ended on April 2, 2019.

Ten valid objections were received during the objection filing period. The Forest Service responsible official and objection review officer met with objectors between May 28, 2019 and June 4, 2019. On June 14, 2019, the Forest Service objection review officer issued written responses to persons who filed objections. The objections raised multiple issues and these were discussed and addressed during the administrative review process. Ultimately, the objection review officer found the Bog Creek Road Project to be in compliance with all applicable laws and the Idaho Panhandle National Forests Plan.

The Final Records of Decisions

The Final RODs, summarized below, were developed through collaboration among CBP, the Forest Service, stakeholders, and the public. They meet the goals and objectives established for the project and other resource needs.

The CBP ROD addresses the decision to approve the funding for and implement the repair and maintenance of Bog Creek Road. The Forest Service Final ROD consists of three components: (1) Road repair and maintenance of Bog Creek Road and change in motorized use designation; (2) change in motorized use designation for Blue Joe Creek Road and roads along the eastern approach to Bog Creek Road to accommodate some seasonal public access and to provide for private landowner and livestock grazing permittee access; and (3) motorized closure of selected seasonally restricted Forest Service roads. Detailed descriptions of the elements of the final decisions can be found in the Final CBP ROD and the Final Forest Service ROD. Information about how to review these decisions is set forth in the ADDRESSES section above.

Dated: February 4, 2020.
Robert Janson,
Acting Assistant Commissioner, Office of Facilities and Asset Management, Office of Enterprise Services, U.S. Customs and Border Protection.
Jeanne Higgins,
Forest Supervisor, Idaho Panhandle National Forests, U.S. Forest Service.

[FR Doc. 2020-02466 Filed 2-6-20; 8:45 am]

BILLING CODE 9111-14-P